DEPARTMENT OF TRANSPORTATION

Federal Aviation Administration

14 CFR Part 71

[Docket No. FAA-2015-4074; Airspace Docket No. 15-AWP-16]

Amendment of Class E Airspace, Truckee, CA

AGENCY: Federal Aviation Administration (FAA), DOT.

ACTION: Final rule.

SUMMARY: This action establishes Class E surface area airspace and modifies Class E airspace extending upward from 700 feet above the surface at Truckee-Tahoe Airport, Truckee, CA, to increase safety and enhance existing instrument flight rules (IFR) operations in the immediate vicinity of the airport.

DATES: Effective 0901 UTC, January 5, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the U.S. Department of Transportation, Docket Operations, 1200 New Jersey Avenue SE., West Bldg Ground Floor Rm W12-140, Washington, DC 20590; Telephone: 1-800-647-5527, or 202-366-9826. The Order is also available for inspection at the National Archives and Records Administration (NARA). For information on the availability of FAA Order 7400.11A at NARA, call 202-741-6030, or go to http://www.archives.gov/federal_register/code_of_federal-regulations/ibr_locations.html. FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Truckee-Tahoe Airport, Truckee, CA.

History

On December 18, 2015, the FAA published in the Federal Register a notice of proposed rulemaking (NPRM) to amend Class E airspace extending upward from 700 feet above the surface at Truckee-Tahoe Airport (80 FR 78988) Docket No. FAA-2015-4074. Interested parties were invited to participate in this rulemaking effort by submitting written comments on the proposal to the FAA. One comment was received requesting the FAA to establish Class E surface airspace within a 4.2 mile radius to increase safety and enhance existing instrument flight rules (IFR) procedures in the immediate vicinity of the airport. The FAA concurred with the comment and on April 22, 2016, published in the Federal Register a supplemental notice of proposed rulemaking (SNPRM) to establish Class E surface airspace at Truckee-Tahoe Airport (81 FR 23658) Docket No. FAA-2015-4074. Interested parties were invited to participate in this rulemaking effort by submitting written comments on the proposal to the FAA. No comments were received.

Class E airspace designations are published in paragraph 6002 and 6005, respectively, of FAA Order 7400.11A, dated August 3, 2016, and effective September 15, 2016, which is incorporated by reference in 14 CFR part 71.1. The Class E airspace designation listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 establishes Class E surface area airspace within a 4.2-mile radius of Truckee-Tahoe Airport, Truckee, CA. Also, this action modifies Class E airspace extending upward from 700 feet above the surface to within a 4.2-mile radius of the airport, with segments extending from the 4.2-mile radius to 19 miles north and 16.5 miles northwest of the airport, and removes reference to Homewood Seaplane Base, which is no longer operational.

Airspace modification is necessary to ensure the safety and management of standard instrument approach and departure procedures for IFR operations at the airport, with a minimum degree of airspace restriction.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

AWP CA E2 Truckee, CA [New]

Truckee-Tahoe Airport, CA

(Lat. 39°19′12″ N., long. 120°08′22″ W.)

That airspace extending upward from the surface within a 4.2-mile radius of Truckee-Tahoe Airport.

Paragraph 6005 Class E Airspace Areas Extending Upward from 700 feet or More Above the Surface of the Earth.

* * * * *

AWP CA E5 Truckee, CA [Modified]

Truckee-Tahoe Airport, CA

(Lat. 39°19′12″ N., long. 120°08′22″ W.)

That airspace extending upward from 700 feet above the surface within a 4.2-mile radius of Truckee-Tahoe Airport, and within 2 miles each side of the Truckee-Tahoe Airport 015° bearing extending from the 4.2-mile radius to 19 miles north of the airport, and within 2 miles each side of the airport 328° bearing extending from the 4.2-mile radius to 16.5 miles northwest of the airport.

Issued in Seattle, Washington, on August 16, 2016.
Richard Roberts,
Acting Manager, Operations Support Group, Western Service Center.

[FR Doc. 2016-22726 Filed 9-21-16; 8:45 am]

BILLING CODE 4910-13-P